DEPARTMENT OF COMMERCE

International Trade Administration

Proposed Information Collection; Comment Request; Application for Insular Watch and Jewelry Program Benefits

AGENCY: International Trade Administration.

ACTION: Notice.

SUMMARY: The Department of Commerce, as part of its continuing effort to reduce paperwork and respondent burden, invites the general public and other Federal agencies to take this opportunity to comment on proposed and/or continuing information collections, as required by the Paperwork Reduction Act of 1995.

DATES: Written comments must be submitted on or before December 27, 2011.

ADDRESSES: Direct all written comments to Diana Hynek, Departmental Paperwork Clearance Officer, Department of Commerce, Room 6616, 14th and Constitution Avenue, NW., Washington, DC 20230 (or via the Internet at dHynek@doc.gov).

FOR FURTHER INFORMATION CONTACT: Requests for additional information or copies of the information collection instrument and instructions should be directed to Supriya Kumar, Statutory Import Programs Staff, (202)482-3530, supriya.kumar@trade.gov and fax number (202) 501-7952.

SUPPLEMENTARY INFORMATION:

I. Abstract

Public Law 97-446, as amended by Public Law 103-465, Public Law 106-36, and Public Law 108-429, requires the Departments of Commerce and the Interior (Departments) to administer the distribution of watch duty-exemptions and watch and jewelry duty-refunds to program producers in the U.S. insular possessions and the Northern Mariana Islands. The primary consideration in collecting information is the enforcement of the law and the information gathered is limited to that necessary to prevent abuse of the program and to permit a fair and equitable distribution of its benefits. The ITA-334P is the principal program form used for recording operational data on the basis of which program entitlements are distributed among the producers. This form also serves as the producer's application to the Departments for these entitlements and is completed biannually by watch and jewelry assemblers and manufacturers. The form consists of four versions: mid-year and annual application for watch producers; and mid-year and annual application for jewelry producers.

II. Method of Collection

The form is sent to each watch and jewelry producer biannually. It is also available at http://ita-web.ita.doc.gov/doc/eFormsPub.nsf and may be completed online and printed, and submitted via mail.

III. Data

OMB Control Number: 0625-0040.

Form Number(s): ITA-334P.

Type of Review: Regular submission (extension of a currently approved information collection).

Affected Public: Business or other for-profit organizations.

Estimated Number of Respondents: 2.

Estimated Time per Response: 1 hour.

Estimated Total Annual Burden Hours: 4.

Estimated Total Annual Cost to Public: $100.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: October 19, 2011.
Gwellnar Banks,
Management Analyst, Office of the Chief Information Officer.

[FR Doc. 2011-27507 Filed 10-24-11; 8:45 am]

BILLING CODE 3510-DS-P